DEPARTMENT OF AGRICULTURE

Notice of Intent To Prepare an Environmental Impact Statement

AGENCY: Forest Service, USDA.

PROJECT: Corralled Bear, Clearwater National Forest, Latah County, ID.

ACTION: Notice of intent to prepare an environmental impact statement.

SUMMARY: The USDA, Forest Service, will prepare an Environmental Impact Statement (EIS) to disclose the environmental effects of timber harvest, prescribed fire, fuels reduction, watershed restoration, and access management activities in the Corralled Bear project area on the Palouse Ranger District of the Clearwater National Forest. The Corralled Bear project area is located north of the towns of Deary and Helmer within the East Fork of Big Bear Creek and Corral Creek drainages, approximately 21 air-miles northeast of the town of Moscow, Idaho.

DATES: This project was previously scoped in March 2006, and the comments received will be included in the documentation for the EIS. A 45-day public comment period will follow the release of the draft environmental impact statement (DEIS) that is expected in September 2007. The final environmental impact statement (FEIS) and Record of Decision (ROD) is expected in February 2008.

SUPPLEMENTARY INFORMATION: The Corralled Bear project area contains approximately 11,318 acres, which is all National Forest lands except for 160 acres of private land. The project area is located in portions of T40N, R1W; T40N, R2W; T41N, R1W; and T41N, R2W, Boise Meridian, Latah County, Idaho. The proposed actions would occur on National Forest lands and are all outside the boundaries of any inventoried roadless area or any areas considered for inclusion to the National Wilderness System as recommended by the Clearwater National Forest Plan or by any past or present legislative wilderness proposals.

Purpose and Need for Action is to: (1) Promote stand productivity, restore vegetative successional stages to reflect historical patch sizes and locations, and restore blister rust resistant white pine; (2) reduce fuel buildup in stands where fire suppression has interrupted the short-return fire interval and resulted in unnaturally high amounts of fuel and overgrown understory, and create a more defensible space to control wildfire on Forest Service land adjacent to private property; (3) reduce long-term sedimentation to streams caused by existing unsurfaced roads, and stabilize stream banks made unstable by motorized vehicles, cattle trailing, and channelization (historic railroad grades); (4) update fish/water quality standards for Corral Creek in Appendix K of the Clearwater Forest Plan to better meet the Clean Water Act standards supporting fisheries and reflect better information on fisheries collected in stream surveys; and (5) provide for a reasonable level of off-highway vehicle (OHV) access, reduce user conflicts, and provide the necessary resource protection required by law, regulation, and good stewardship practices.

The Proposed Action would consist of timber harvest on about 812 acres, using improvement cuts, commercial thinning, and regeneration harvest methods. Some regeneration harvests could create openings exceeding 40 acres in size; however, all harvest will retain some healthy trees and replacement snags for structural diversity. Road activities associated with the timber sales would include reconstructing about 2.4 miles of existing roads and constructing 3.6 miles of temporary road (to be decommissioned after harvest activity). About 8.6 miles of open roads would be treated on each side to reduce fuel concentrations and ladder fuels. Watershed improvements would include 8.2 miles of road decommissioning, putting 14.4 miles of existing roads into intermittent stored service (self-maintaining), and installation of a rocked cattle crossing. Access management would consist of designating existing suitable OHV routes for future use and managing area roads and trails based on a Roads Analysis. Other components of the proposed action include designating areas to be managed for old growth and making a Forest Plan Amendment to raise the fish/water quality standards on Corrall Creek to incorporate better information on fish and their habitat.

Possible Alternatives the Forest Service will consider include the “no action ” alternative in which none of the proposed activities would be implemented. Additional alternatives being considered include an alternative that does not build any new roads, an alternative that does not create any openings by utilizing only intermediate (non-regeneration) type harvests like thinnings and improvement cuts, an alternative that promotes patch placement for maximum wildlife and biological benefits, an alternative that does not include a Forest Plan Amendment to increase the fish and water standard for Corral Creek, and an alternative that only includes activities that would help stabilize watershed conditions, such as road obliteration, stream bank stabilization and OHV use management.

The Scoping Process was initiated with the release of a Scoping Letter on March 29, 2006. Comments received as a result of that effort will be included in the documentation for the EIS. Additional public input will be solicited following the release of the DEIS. This proposal also includes six openings greater than 40 acres in size that would be created by timber harvest. A 60-day public review of the proposed openings will be initiated by public notice in the newspaper of record.

Preliminary Issues that could be affected by proposed activities include: Access management, air quality, economic feasibility, fish habitat, heritage resources, sensitive and management indicator species of wildlife, sensitive plants, snag habitat, soil productivity, spread of noxious weeds, tribal treaty rights, and water quality. Issues expected not to be affected by the proposal include impacts of grazing, old growth habitat, risk of landslides, and threatened and endangered wildlife and plant species. Issues identified through previous scoping and found to be outside the scope of the project or not consistent with Forest Plan standards include using prescribed fire instead of timber harvest for vegetative treatments within the E1 management area and evaluating cattle grazing laws.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

The Responsible Official for this project is the Forest Supervisor of the Clearwater National Forest, 12730 Highway 12, Orofino, ID 83544. The Responsible Official will decide if the proposed project will be implemented and will document the decision and reasons for the decision in a Record of Decision. That decision will be subject to Forest Service Appeal Regulations. The responsibility for preparing the DEIS and FEIS has been delegated to Kara Chadwick, District Ranger, Palouse Ranger District.

ADDRESSES: Written comments and suggestions concerning this project should be sent to: Kara Chadwick, District Ranger, Palouse Ranger District, 1700 Highway 6, Potlatch, ID 83855 or e-mailed to: comments-northern-clearwater-palouse@fs.fed.us.

FOR FURTHER INFORMATION CONTACT: Tam White; Project Leader, North Fork Ranger District, at: twhite@fs.fed.us or phone: (208) 476-4541.

Dated: July 19, 2007.
Thomas K. Reilly,
Forest Supervisor.

[FR Doc. 07-3653 Filed 7-25-07; 8:45 am]

BILLING CODE 3410-11-M